SMALL BUSINESS ADMINISTRATION

[Disaster Declaration #11886 and #11887]

Georgia Disaster Number GA-00027

AGENCY: U.S. Small Business Administration.

ACTION: Amendment 2.

SUMMARY: This is an amendment of the Presidential declaration of a major disaster for the State of Georgia (FEMA-1858-DR), dated 09/24/2009.

Incident: Severe Storms and Flooding.

Incident Period: 09/18/2009 and continuing.

DATES: Effective Date: 09/25/2009.

Physical Loan Application Deadline Date: 11/23/2009.

EIDL Loan Application Deadline Date: 06/24/2010.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of Georgia, dated 09/24/2009 is hereby amended to include the following areas as adversely affected by the disaster:

Primary Counties: (Physical Damage and Economic Injury Loans):

Bartow, Catoosa, Coweta, Dekalb, Fulton, Gwinnett, Heard, Newton, Rockdale, Walker.

Contiguous Counties: (Economic Injury Loans Only):

Georgia: Barrow, Butts, Clayton, Dade, Fayette, Hall, Henry, Jackson, Jasper, Meriwether, Morgan, Spalding, Troup, Walton, Whitfield.

Alabama: Dekalb.

Tennessee: Hamilton.

All other information in the original declaration remains unchanged.

(Catalog of Federal Domestic Assistance Numbers 59002 and 59008)

James E. Rivera,
Acting Associate Administrator for Disaster Assistance.

[FR Doc. E9-23774 Filed 10-1-09; 8:45 am]

BILLING CODE 8025-01-P